DEPARTMENT OF HEALTH AND HUMAN SERVICES

Privacy Act of 1974: Revision to Existing System of Records

AGENCY: Child Care Subsidy Program, Office of the Assistant Secretary for Management and Budget, Office of the Secretary, HHS.

ACTION: Notice of revision to an existing system of records.

SUMMARY: In accordance with the requirements of the Privacy Act, the Department of Health and Human Services (HHS) is publishing a notice of the revision and renumbering of an existing system of records, 90-30-0050, Child Care Subsidy Program. The revised system will collect family income data from employees in the Office of the Secretary (OS) and the Administration on Aging (AoA), as well as employees in the Substance Abuse and Mental Health Services Administration (SAMHSA) who are already covered by this system, for the purpose of determining their eligibility for child care subsidies, and the amounts of the subsidies. It also will collect information from the employees' child care provider(s) for verification purposes, e.g., that the provider is licensed. Collection of data will be by subsidy application forms submitted by employees.

DATES: This revision does not revise the routine uses for this system. This amendment will be effective without further notice on the day of its publication unless comments are received which would result in a contrary determination.

FOR FURTHER INFORMATION CONTACT: Child Care Subsidy Program Coordinator, Work/Life Center, Room 1250, 330 C Street, SW., Washington, DC 20201. The telephone number is 202-690-1441 or 202-690-8229.

SUPPLEMENTARY INFORMATION: The original Notice of System of Records covered only employees of the SAMHSA. Subsequently OS and AoA have established child care subsidy programs for their employees. This amendment expands coverage of the Child Care Subsidy Program Records to include employees in OS and AoA who are eligible for this program. The notice is published below in its entirety, as amended.

Dated: June 21, 2000.
Evelyn White.
Deputy Assistant Secretary for Human Resources.

09-90-0200

System Name:

Child Care Subsidy Program Records (HHS).

System Classification:

None.

System Location:

Records are located throughout HHS in offices of agency child care program administrators and in offices of contract employees engaged to administer the subsidy programs. Since there are several sites around the country, contact the appropriate System Manager listed in Appendix A for more details about specific locations.

Categories of Individuals Covered by the System:

The individuals in the system are employees of the Administration on Aging (AoA), Office of the Secretary (OS), and Substance Abuse and Mental Health Services Administration (SAMHSA), Department of Health and Human Services (HHS), who voluntarily apply for child subsidies.

Categories of Records in the System:

Application forms for a child care subsidy contain personal information, including employee's (parent) name, Social Security Number, grade, home phone number, home address, total income, number of dependent children, and number of children on whose behalf the parent is applying for a subsidy, information on any tuition assistance received from State/County/local child care subsidy, and information on child care providers used, including their name, address, provider license number, and State where license issued, tuition cost, provider tax identification number, and copies of Internal Revenue Form 1040 for verification purposes.

Authority for Maintenance of the System:

Pub. L. 106-58 and Executive Order 9397.

Purpose(s):

To establish and verify HHS employees' eligibility for child care subsidies in order for HHS to provide monetary assistance to its employees.

Routine Uses of Records Maintained in the System, Including Categories of Users and the Purpose of Such Use:

1. Disclosure may be made to a Member of Congress or to a congressional staff member in response to a request for assistance from the Member by the individual of record.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation, and HHS determines that the use of such records by the Department of Justice, court or other tribunal is relevant and necessary to the litigation and would help in the effective representation of the governmental party, provided, however, that in each case HHS determines that such disclosure is compatible with the purpose for which the records were collected.

3. HHS intends to disclose information from this system to an expert, consultant, or contractor (including employees of the contractor) of HHS if necessary to further the implementation and operation of this program.

4. Disclosure may be made to a Federal, State, or local agency responsible for investigating, prosecuting, enforcing, or implementing a statute, rule, regulation, or order, where the Department of Health and Human Services is made aware of a violation or potential violation of civil or criminal law or regulation.

5. Disclosure may be made to the Office of Personnel Management or the General Accounting Office when the information is required for evaluation of the subsidy program.

Policies and Practices for Storing, Retrieving, Accessing, Retaining, and Disposing of Records in the System:

Storage:

Information may be collected on paper or electronically and may be stored as paper forms or on computers.

Retrievability:

The records are retrieved by name and may also be cross-referenced to Social Security Number.

Safeguards:

—Authorized Users: Only HHS personnel working on this project and personnel employed by HHS contractors to work on this project are authorized users as designated by the system manager.

—Physical Safeguards: Records are stored in lockable metal file cabinets or security rooms.

—Procedural safeguards: Contractors who maintain records in this system are instructed to make no further disclosure of the records, except as authorized by the system manager and permitted by the Privacy Act. Privacy Act requirements are specifically included in contracts.

—Technical Safeguards: Electronic records are protected by use of passwords.

—Implementation Guidelines: HHS Chapter 45-13 of the General Administration Manual, Safeguarding Records Contained in Systems of Records and the HHS Automated Information Systems Security Program Handbook, Information Resources Management Manual.

Retention and Disposal:

Disposition of records is according to the National Archives and Records Administration (NARA) guidelines.

System Manager(s) and Address:

The records of individuals applying for and receiving child care subsidies are managed by System Managers at the various HHS sites listed in Appendix A.

Notification Procedure:

Individuals may submit a request with a notarized signature on whether the system contains records about them to the local System Manager.

Record Access Procedures:

Request from individuals for access to their records should be addressed to the local System Manager. Requesters should also reasonably specify the record contents being sought. Individuals may also request an accounting of disclosures of their records, if any.

Contesting Record Procedures:

Contact the official at the address specified under Notification Procedures above and reasonably identify the record, specify the information being contested, and state the corrective action sought, with supporting information to show how the record is inaccurate, incomplete, untimely, or irrelevant.

Record Source Categories:

Information is provided by HHS employees who apply for child care subsidies. Furnishing of the information is voluntary.

Systems Exempted from Certain Provisions of the Act:

None.

Appendix A

1. For employees of the Office of the Secretary and the Administration on Aging, nationwide, contact: Child Care Program coordinator, PSC Work/Life Center, Room 1250, 330 C Street, SW, Washington, DC 20201.

2. For employees of the Substance Abuse and Mental Health Services Administration, contact: Director, Division of Human Resources Management, Office of Program Services, Substance Abuse and Mental health Services Administration, 5600 Fishers Lane, Rockville, Maryland 20857.

[FR Doc. 00-16230 Filed 6-26-00; 8:45 am]

BILLING CODE 4150-04-M